DEPARTMENT OF HOMELAND SECURITY

U.S. Customs and Border Protection

[CBP Dec. No. 16-18]

Electronic Visa Update System (EVUS) Requirements: Identification of the People's Republic of China (PRC) as an EVUS Country and Designation of Maximum Validity B-1, B-2, and B-1/B-2 Visas as Designated Visa Categories

AGENCY: U.S. Customs and Border Protection, Department of Homeland Security.

ACTION: Notice.

SUMMARY: In this Federal Register, DHS is publishing a final rule titled “Establishment of the Electronic Visa Update System (EVUS)” (hereafter “EVUS Final Rule”), amending 8 CFR part 215, subpart B, to establish the Electronic Visa Update System and to specify certain requirements. According to the rule, nonimmigrant aliens who hold a passport issued by an identified country containing a U.S. nonimmigrant visa of a designated category will be required to provide biographic and other information to DHS by enrolling in EVUS to maintain the validity of those visas. The EVUS final rule specifies that the Secretary of Homeland Security, in consultation with the Secretary of State, may identify countries and designate nonimmigrant visa categories for purposes of the EVUS requirements and that notice of identified countries and designated nonimmigrant visa categories will be published in the Federal Register. Through this notice, the Secretary of Homeland Security, after consultation with the Secretary of State, identifies the People's Republic of China (PRC) as an EVUS country and designates B-1, B-2, and B-1/B-2 visas issued without restriction for the maximum validity period, which is generally 10 years,¹ as designated visa categories when the visas are contained in a passport issued by the PRC.

¹ This includes visas issued for more than nine years and all replacement visas issued to correct errors in the original instance.

DATES: This identification and designation is effective October 20, 2016.

FOR FURTHER INFORMATION CONTACT: Suzanne Shepherd, Office of Field Operations, Suzanne.M.Shepherd@cbp.dhs.gov or (202) 344-2073.

SUPPLEMENTARY INFORMATION:

Background

In this Federal Register, DHS is publishing a final rule titled “Establishment of the Electronic Visa Update System (EVUS)” amending 8 CFR part 215, subpart B, to establish the Electronic Visa Update System. EVUS is an online information update system that allows for the collection of biographic and other information from nonimmigrant aliens who hold a passport issued by an identified country containing a U.S. nonimmigrant visa of a designated category. See EVUS Final Rule. Nonimmigrant aliens subject to these regulations must periodically enroll in EVUS and obtain a notification of compliance prior to travel to the United States. As discussed in the Department of State's parallel rule, “Visa Information Update Requirements under the Electronic Visa Update System (EVUS),” also published in this Federal Register, individuals subject to the EVUS requirements must comply with the EVUS regulations in 8 CFR part 215, subpart B, in order to maintain the validity of their visas of a designated category.

As specified in 8 CFR 215.22, and explained in the EVUS Final Rule, the Secretary of Homeland Security, in the Secretary's discretion and in consultation with the Secretary of State, may identify countries (“EVUS countries”) whose passport holders will be subject to the EVUS regulations, if the passport contains a U.S. nonimmigrant visa of a designated category, and designate applicable visa categories. The regulations state that notice of identified countries and designated visa categories will be published in the Federal Register. See 8 CFR 215.22 and 8 CFR 215.23(c). This announcement provides such a notice.

Identification and Designation

Pursuant to 8 CFR 215.22, the Secretary, following consultation with the Secretary of State, identifies the People's Republic of China (PRC) as an EVUS country and designates all B-1, B-2, and B-1/B-2 visas issued without restriction for maximum validity, which generally will be 10 years, but includes visas issued for more than nine years and all replacement visas issued to correct errors in the original visa, as designated visa categories when the visas are contained in a passport issued by the PRC.

B nonimmigrant visas, often referred to as “visitor visas,” are issued to individuals seeking to travel and be admitted to the United States temporarily for business (visa category B-1); for tourism or pleasure, (visa category B-2), or a combination of both purposes (visa category B-1/B-2). See section 101(a)(15)(B) of the Immigration and Nationality Act of 1952, as amended (INA) (8 U.S.C. 1101(a)(15)(B)), 8 CFR 214.1(a), and 22 CFR 41.31.

Accordingly, nonimmigrant aliens who hold a passport issued by the PRC containing a U.S. nonimmigrant B-1, B-2 or B-1/B-2 visa issued without restriction, for maximum validity, which generally will be 10 years, but includes visas issued for more than nine years and all replacement visas issued to correct an error in the original visa, must comply with the EVUS regulations in 8 CFR part 215, subpart B, in addition to all other applicable immigration laws and regulations.

Dated: October 13, 2016.
Jeh Charles Johnson,
Secretary.

[FR Doc. 2016-25326 Filed 10-19-16; 8:45 am]

BILLING CODE 9111-14-P